DEPARTMENT OF COMMERCE

National Oceanic and Atmospheric Administration

50 CFR Part 660

[Docket No. 140904754-5188-02]

RIN 0648-BF40

Magnuson-Stevens Act Provisions; Fisheries Off West Coast States; Pacific Coast Groundfish Fishery; 2015-2016 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces inseason changes to management measures in the Pacific Coast groundfish fisheries. This action, which is authorized by the Pacific Coast Groundfish Fishery Management Plan (PCGFMP), is intended to prevent exceeding the 2015 Area 2A Pacific halibut quota for incidental retention in the sablefish primary fishery and the Area 2A Total Allowable Catch (TAC) and to prevent exceeding the annual catch limit (ACL) for sablefish north 36° N. lat.

DATES: This final rule is effective October 13, 2015.

FOR FURTHER INFORMATION CONTACT: Sarah Williams, phone: 206-526-4646, fax: 206-526-6736, or email: sarah.williams@noaa.gov.

SUPPLEMENTARY INFORMATION:

Electronic Access

This rule is accessible via the Internet at the Office of the Federal Register Web site at https://www.federalregister.gov. Background information and documents are available at the Pacific Fishery Management Council's Web site at http://www.pcouncil.org/. Copies of the final environmental impact statement (FEIS) for the Groundfish Specifications and Management Measures for 2015-2016 and Biennial Periods Thereafter are available from Donald McIsaac, Executive Director, Pacific Fishery Management Council (Council), 7700 NE Ambassador Place, Portland, OR 97220, phone: 503-820-2280.

Background

Closing Incidental Pacific Halibut Retention in the Sablefish Primary Fishery

The International Pacific Halibut Commission (IPHC) sets the Pacific halibut total allowable catch (TAC) on an annual basis. A portion of the TAC is available to fisheries in Area 2A (waters off the U.S. West Coast). The Council's Catch Sharing Plan (CSP) guides allocation of the Area 2A portion of the TAC to the various commercial and recreational fisheries in Area 2A. Specifically, it provides that if the Area 2A TAC is greater than 900,000 lb, the portion of the Washington sport allocation that is in excess of 214,110 lb is available to the sablefish primary fishery north of Point Chehalis, WA.

The final Area 2A halibut TAC for 2015 was adopted by the IPHC at their January 26 through January 30, 2015 meeting. Following this meeting, NMFS published two final rules implementing the 2015 halibut TAC and the CSP. The first rule implementing the TAC published on March 17, 2015 (80 FR 13771) and second rule implementing the CSP published on April 1, 2015 (80 FR 17344). The final 2A TAC resulted in an allocation to the limited entry fixed gear (LEFG) sablefish primary fishery of 10,348 lb. The incidental fishery opened on April 1, 2015, with a landing limit of 75 lb dressed weight of halibut per 1,000 lb dressed weight of sablefish, and up to two additional Pacific halibut in excess of this ratio. This ratio is implemented in LEFG sablefish primary fishery regulations at § 660.231(b)(3)(iv).

In late August 2015, the Washington Department of Fish and Wildlife (WDFW) notified NMFS and IPHC that the incidental Pacific halibut quota was projected to be attained and that a closure was likely before the end of the scheduled season on October 31. Following this notification, NMFS, IPHC, and WDFW met on August 25, 2015, reviewed the catch data, and the IPHC closed incidental Pacific halibut retention in the LEFG sablefish primary fishery at 12:01 a.m. on September 1, 2015. This action was taken consistent with IPHC's inseason authority, as described in section 5 of the annual IPHC regulations and in the CSP.

The Council was notified of the IPHC inseason action at its September 11-16, 2015, meeting. To make clear that retention of incidentally caught Pacific halibut in the LEFG sablefish primary fishery north of Pt. Chehalis, WA, is closed, the Council recommended and NMFS is implementing a modification to § 660.231(b)(3)(iv). Currently that regulation states the incidental retention ratio; the modification would state that incidental retention is closed.

Closure of the Limited Entry Fixed Gear and Open Access Sablefish Daily Trip Limit Fisheries North of 36° N. Lat.

The best available fisheries information indicates that catch of sablefish in the commercial non-trawl fisheries north of 36° N. lat. is higher than anticipated. The Council considered updated projections and the status of ongoing groundfish fisheries at its September 11-16, 2015, meeting. Fishery models, updated with the best estimate reports from the Pacific Fishery Information Network through August 31, 2015, project that sablefish landings through the end of the year would exceed the sablefish allocations in both the LEFG and open access (OA) daily trip limit (DTL) fisheries north of 36° N. lat. Projected landings in the LEFG DTL fishery north of 36° N. lat. vary based on assumptions on the price per pound. If no action is taken and this higher than anticipated catch continues in the LEFG DTL fishery, projected landings range from 126 percent of the allocation (low price assumption) to 139 percent of the allocation (high price assumption). Also, if no action is taken and higher than anticipated catch continues in the OA fishery, projected landings are 126 percent of the allocation.

Sablefish is managed, in part, with two-month cumulative limits. Information regarding higher than anticipated catch of sablefish in these fisheries came during the Period 5 two-month cumulative limit period (September-October). It is very likely that most participating vessels will have caught their Period 5 two-month limits by the time a closure could be in effect. Therefore, the Council recommended a closure beginning at the start of the next bi-monthly cumulative limit period (Period 6, November-December), rather than during Period 5. Closing these sablefish fisheries November 1 is projected to reduce the overage of the allocations for both LEFG and OA DTL fisheries. Landings in the LEFG DTL fishery would be reduced to 111 percent—116 percent of the allocation and landings in the OA fishery reduced to 102 percent of the allocation. The Period 6 closure reduces the risk of exceeding the north 36° N. lat. ACL due to the overages in the LEFG and OA DTL allocations, and keeps total projected impacts across all fisheries below the 2015 sablefish north 36° N. lat. ACL (4,608 mt out of a 4,792 mt ACL)

NMFS agrees with the Council recommendation and rationale and is implementing a closure for sablefish in the LEFG and OA DTL fisheries north of 36° N. lat., beginning November 1, 2015. Starting November 1, it will be prohibited to take and retain, possess, or land sablefish in the LEFG and OA DTL fisheries north 36° N. lat.

Classification

This final rule makes routine inseason adjustments to groundfish fishery management measures, based on the best available information, consistent with the PCGFMP and its implementing regulations and the Halibut Act and its implementing regulations.

This action is taken under the authority of 50 CFR 660.60(c) and is exempt from review under Executive Order 12866.

The aggregate data upon which these actions are based are available for public inspection at the Office of the Administrator, West Coast Region, NMFS, during business hours.

NMFS finds good cause to waive prior public notice and comment on the revisions to groundfish management measures under 5 U.S.C. 553(b) because notice and comment would be impracticable and contrary to the public interest. Also, for the same reasons, NMFS finds good cause to waive the 30-day delay in effectiveness pursuant to 5 U.S.C. 553(d)(3), so that this final rule may become effective October 13, 2015.

At the September Council meeting, the Council recommended that these changes be implemented as quickly as possible to make the groundfish regulation consistent with the IPHC inseason action which has already been taken and the sablefish closure based on information available at the September Council meeting. There was not sufficient time after that meeting to draft this document and undergo proposed and final rulemaking before these actions need to be in effect. For the actions to be implemented in this final rule, affording the time necessary for prior notice and opportunity for public comment would prevent NMFS from managing fisheries using the best available science to approach, without exceeding, the halibut allocation to the sablefish fishery and ACLs for federally managed species in accordance with the PCGFMP and applicable law and the halibut allocations implemented under the authority in the Halibut Act. These adjustments to management measures must be implemented in a timely manner to prevent the Area 2A portion of the 2015 halibut TAC and the 2015 sablefish north 36° N. lat. ACL from being exceeded. The elimination of Pacific halibut retention in the LEFG sablefish primary fishery is intended to prevent exceeding the Area 2A portion of the 2015 Pacific halibut TAC and the allocation to the sablefish primary fishery. The closure of the sablefish fishery for LEFG and OA DTL fisheries is intended to prevent exceeding the 2015 sablefish ACL north 36° N. lat. No aspect of this action is controversial, and changes of this nature were anticipated in the groundfish biennial harvest specifications and management measures established for 2015-2016 and the 2015 Pacific halibut final rules.

Accordingly, for the reasons stated above, NMFS finds good cause to waive prior notice and comment and to waive the delay in effectiveness.

List of Subjects in 50 CFR Part 660

Fisheries, Fishing, Indian Fisheries.

Dated: October 7, 2015.
Emily H. Menashes,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. In § 660.231, paragraph (b)(3)(iv) is revised to read as follows:

§ 660.231 Limited entry fixed gear sablefish primary fishery.

* * * * *

(b) * * *

(3) * * *

(iv) Incidental halibut retention north of Pt. Chehalis, WA (46°53.30′ N. lat.). No halibut retention is allowed during the sablefish primary fishery.

* * * * *

3. Table 2 (North) and 2 (South) to part 660, subpart E, are revised to read as follows:

4. Table 3 (North) and 3 (South) to part 660, subpart F, are revised to read as follows:

[FR Doc. 2015-25986 Filed 10-7-15; 4:15 pm]

BILLING CODE 3510-22-P